DEPARTMENT OF LABOR

Employment and Training Administration

[TA-W-70,944]

Enterprise Automotive Systems, Inc., Warren, MI; Notice of Termination of Investigation

Pursuant to Section 221 of the Trade Act of 1974, as amended, an investigation was initiated in response to a petition filed by a company fficial and union representative (President) on June 4, 2009, on behalf of workers of Enterprise Automotive Systems, Inc., Warren, Michigan.

The petitioning group of workers is covered by an earlier petition (TA-W-70,593) filed on May 26, 2009, that is subject of an ongoing investigation for which a determination has not yet been issued. Therefore, further investigation in this case would serve no purpose and the investigation has been terminated.

Signed at Washington, DC, this 25th of August 2009.
Elliott S. Kushner,
Certifying Officer, Division of Trade Adjustment Assistance.

[FR Doc. E9-29166 Filed 12-7-09; 8:45 am]

BILLING CODE 4510-N-P